DEPARTMENT OF TRANSPORTATION

Surface Transportation Board

[STB Docket Nos. MC-F-20963 and MC-F-20965] ¹

Stagecoach Holdings plc and Coach USA, Inc., et al.—Control—Century Airline Services, Inc. and All West Coachlines, Inc., et al.

AGENCY: Surface Transportation Board.

¹ These proceedings are not consolidated. A single decision is being issued for administrative convenience.

ACTION: Notice Tentatively Approving Finance Transactions.

SUMMARY: Stagecoach Holdings plc (Stagecoach), and its subsidiary, Coach USA, Inc. (Coach), both noncarriers that control motor passenger carriers, and various subsidiaries of each (collectively, applicants), filed an application under 49 U.S.C. 14303 for Stagecoach, related applicants, and its subsidiaries, Coach and Coach Canada, Inc. (Canada), to acquire control of Century Airline Services, Inc. (Century), and for Stagecoach, related applicants, and its subsidiaries, Coach and Coach USA West, Inc. (West), to acquire control of All West Coachlines, Inc. d/b/a All West Tours (All West) and Goodall's Charter Bus Service, Inc. (Goodall's). Persons wishing to oppose the application must follow the rules at 49 CFR 1182.5 and 1182.8. The Board has tentatively approved the transactions, and, if no opposing comments are timely filed, this notice will be the final Board action.

DATES: Comments must be filed by May 15, 2000. Applicants may file a reply by May 30, 2000. If no comments are filed by May 15, 2000, this notice is effective on that date.

ADDRESSES: Send an original and 10 copies of any comments referring to STB Docket No. MC-F-20963, et al. to: Surface Transportation Board, Office of the Secretary, Case Control Unit, 1925 K Street, N.W., Washington, DC 20423-0001. In addition, send one copy of comments to applicants' representative: Betty Jo Christian, Steptoe & Johnson LLP, 1330 Connecticut Avenue, N.W., Washington, DC 20036.

FOR FURTHER INFORMATION CONTACT: Beryl Gordon, (202) 565-1600. [TDD for the hearing impaired: 1-800-877-8339.]

SUPPLEMENTARY INFORMATION: Stagecoach is a public limited corporation organized under the laws of Scotland, and Coach is a Delaware corporation. Stagecoach and its subsidiaries ² currently control Coach and its noncarrier regional management subsidiaries (including Canada and West), as well as the motor passenger carriers jointly controlled by Coach and the management subsidiaries.³ Coach acquired the companies that are the subject of these proceedings by purchasing all of the outstanding stock of Century ⁴ and Goodall's ⁵ in separate 1999 transactions and simultaneously placing the stock of each into independent voting trusts. In January 2000, Coach purchased the stock of All West ⁶ and again simultaneously placed the stock into an independent voting trust. Applicants submit that the federal and state operating authorities held by Century, All West and Goodall's will not be transferred from one entity to another as a result of the control transactions.

² The four noncarrier subsidiaries of Stagecoach that are intermediate in the corporate chain connecting Stagecoach with Coach are: SUS 1 Limited, SUS 2 Limited, Stagecoach Nevada (a Nevada general partnership formerly known as Stagecoach General Partnership), and SCH US Holdings Corp. (collectively, the Intermediate Subsidiaries).

³ Control over Coach and its subsidiaries was approved in Stagecoach Holdings plc—Control—Coach USA, Inc., et al., STB Docket No. MC-F-20948 (STB served July 22, 1999).

⁴ Century is an Ontario corporation. It holds federally issued operating authority in Docket No. MC-293450, which authorizes it to provide charter and special services between points in the United States.

⁵ Goodall's is a California corporation. It holds federally issued operating authority in Docket No. MC-148870, which authorizes it to provide charter and special services passenger transportation between points in the United States.

⁶ All West is a California corporation. It holds federally issued operating authority in Docket No. MC-212056, which authorizes it to engage in charter and special operations between points in the United States (except Alaska and Hawaii) and to operate as a motor contract carrier under continuing contracts with persons requiring passenger service.

Under 49 U.S.C. 14303(b), we must approve and authorize a transaction we find consistent with the public interest, taking into consideration at least: (1) the effect of the transaction on the adequacy of transportation to the public; (2) the total fixed charges that result; and (3) the interest of affected carrier employees.

Applicants have submitted the information required by 49 CFR 1182.2, including information to demonstrate that the proposed transactions are consistent with the public interest under 49 U.S.C. 14303(b). Specifically, applicants have shown that the proposed transactions will have a postive effect on the adequacy of transportation to the public and will result in no increase in fixed charges, and no changes in employment. See 49 CFR 1182.2(a)(7). Additional information, including a copy of the application, may be obtained from the applicants' representative.

On the basis of the application, we find that the proposed transactions are consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at “WWW.STB.DOT.GOV.”

This decision will not significantly affect either the quality of the human environment or the conservation of energy resources.

It is ordered:

1. The proposed acquisitions of control are approved and authorized, subject to the filing of opposing comments.

2. If timely opposing comments are filed, the findings made in this decision will be deemed as having been vacated.

3. This decision will be effective on May 15, 2000, unless timely opposing comments are filed.

4. A copy of this notice will be served on: (1) the U.S. Department of Transportation, Federal Motor Carrier Safety Administration—HMCE-20, 400 Virginia Avenue, S.W., Suite 600, Washington, DC 20024; (2) the U.S. Department of Justice, Antitrust Division, 10th Street & Pennsylvania Avenue, N.W., Washington, DC 20530; and (3) the U.S. Department of Transportation, Office of the General Counsel, 400 7th Street, S.W., Washington, DC 20590.

Decided: March 23, 2000.
By the Board, Chairman Morgan, Vice Chairman Burkes, and Commissioner Clyburn.
Vernon A. Williams,
Secretary.

[FR Doc. 00-7773 Filed 3-28-00; 8:45 am]

BILLING CODE 4915-00-P